DEPARTMENT OF ENERGY

Federal Energy Regulatory Commission

Combined Notice of Filings #1

Take notice that the Commission received the following electric corporate filings:

Docket Numbers: EC19-87-000.

Applicants: RWE Aktiengesellschaft, E.ON SE, Munnsville Wind Farm, LLC, Pioneer Trail Wind Farm, LLC, Radford's Run Wind Farm, LLC, Settlers Trail Wind Farm, LLC, Stony Creek Wind Farm, LLC, Wildcat Wind Farm I, LLC, Iron Horse Battery Storage, LLC, EC&R Energy Marketing, LLC, EC&R O&M, LLC.

Description: Joint Application for Authorization Under Section 203 of the Federal Power Act, et al. of RWE Aktiengesellschaft, et al.

Filed Date: 5/7/19.

Accession Number: 20190507-5160.

Comments Due: 5 p.m. ET 5/28/19.

Docket Numbers: EC19-88-000.

Applicants: Cinergy Corp., Duke Energy Renewables, Inc., Caprock Solar 1 LLC, Cimarron Windpower II, LLC, Frontier Windpower, LLC, Happy Jack Windpower, LLC, Ironwood Windpower, LLC, Kit Carson Windpower, LLC, Laurel Hill Wind Energy, LLC, North Allegheny Wind, LLC, Pumpjack Solar I, LLC, Rio Bravo Solar I, LLC, Rio Bravo Solar II, LLC, Shoreham Solar Commons LLC, Seville Solar One LLC, Seville Solar Two LLC, Silver Sage Windpower, LLC, Three Buttes Windpower, LLC, Top of the World Wind Energy LLC, Tallbear Seville LLC, Wildwood Solar I, LLC, Wildwood Solar II, LLC, John Hancock Life Insurance Company (U.S.A.), JH Symphony Renewables, LLC.

Description: Joint Application for Authorization Under Section 203 of the Federal Power Act of Cinergy Corp., et al.

Filed Date: 5/8/19.

Accession Number: 20190508-5097.

Comments Due: 5 p.m. ET 5/29/19.

Take notice that the Commission received the following electric rate filings:

Docket Numbers: ER15-572-007.

Applicants: New York Transco, LLC, New York Independent System Operator, Inc.

Description: Compliance filing: NY Transco compliance re: formula rate revisions AC transmission projects to be effective 4/8/2019.

Filed Date: 5/8/19.

Accession Number: 20190508-5001.

Comments Due: 5 p.m. ET 5/29/19.

Docket Numbers: ER19-318-000.

Applicants: Midcontinent Independent System Operator, Inc.

Description: Midcontinent Independent System Operator, Inc. submits tariff filing per 35.19a(b): Refund Report_Cleco Power [ER17-1368-000, ER17-1669-000, ER18-1237-000 & ER19-318-000] to be effective N/A.

Filed Date: 5/8/19.

Accession Number: 20190508-5058.

Comments Due: 5 p.m. ET 5/29/19.

Docket Numbers: ER19-1456-001.

Applicants: Midcontinent Independent System Operator, Inc.

Description: Tariff Amendment: 2019-05-08_SA 3293 Big Stone Sub Transformer Upgrade Sub MPFCA (J488 J493 J526) to be effective 3/29/2019.

Filed Date: 5/8/19.

Accession Number: 20190508-5099.

Comments Due: 5 p.m. ET 5/20/19.

Docket Numbers: ER19-1797-000.

Applicants: Valcour Clinton Windpark, LLC.

Description: § 205(d) Rate Filing: Notice of Succession & Clarification of Category Seller Status to be effective 5/8/2019.

Filed Date: 5/7/19.

Accession Number: 20190507-5108.

Comments Due: 5 p.m. ET 5/28/19.

Docket Numbers: ER19-1798-000.

Applicants: Valcour Ellenburg Windpark, LLC.

Description: § 205(d) Rate Filing: Notice of Succession & Clarification of Category Seller Status to be effective 5/8/2019.

Filed Date: 5/7/19.

Accession Number: 20190507-5124.

Comments Due: 5 p.m. ET 5/28/19.

Docket Numbers: ER19-1799-000.

Applicants: Valcour Wethersfield Windpark, LLC.

Description: § 205(d) Rate Filing: Notice of Succession & Clarification of Category Seller Status to be effective 5/8/2019.

Filed Date: 5/7/19.

Accession Number: 20190507-5128.

Comments Due: 5 p.m. ET 5/28/19.

Docket Numbers: ER19-1800-000.

Applicants: Midcontinent Independent System Operator, Inc.

Description: § 205(d) Rate Filing: 2019-05-07_SA 6511 ETEC-MISO Agreement for Pseudo-Ties Out of MISO to be effective 6/1/2019.

Filed Date: 5/7/19.

Accession Number: 20190507-5145.

Comments Due: 5 p.m. ET 5/28/19.

Docket Numbers: ER19-1801-000.

Applicants: Fresh Air Energy II, LLC.

Description: Petition for Limited Waiver of Tariff of Fresh Air Energy II, LLC.

Filed Date: 5/7/19.

Accession Number: 20190507-5153.

Comments Due: 5 p.m. ET 5/28/19.

Docket Numbers: ER19-1802-000.

Applicants: Portland General Electric Company.

Description: Petition to Terminate Settlement (EL02-114-000 and EL02-115-001) of Portland General Electric Company.

Filed Date: 5/7/19.

Accession Number: 20190507-5159.

Comments Due: 5 p.m. ET 5/28/19.

Docket Numbers: ER19-1803-000.

Applicants: North Rosamond Solar, LLC.

Description: § 205(d) Rate Filing: Amendments to MBR Tariff to Reflect Affiliation to be effective 4/10/2019.

Filed Date: 5/8/19.

Accession Number: 20190508-5010.

Comments Due: 5 p.m. ET 5/29/19.

Docket Numbers: ER19-1804-000.

Applicants: The Potomac Edison Company, PJM Interconnection, L.L.C.

Description: § 205(d) Rate Filing: Potomac Edison submits CA, Service Agreement No. 5274 with SVEC to be effective 7/7/2019.

Filed Date: 5/8/19.

Accession Number: 20190508-5028.

Comments Due: 5 p.m. ET 5/29/19.

Docket Numbers: ER19-1805-000.

Applicants: El Paso Electric Company.

Description: § 205(d) Rate Filing: Service Agreement No. 317, Short-Term Firm PTP Agreement with EDF to be effective 7/8/2019.

Filed Date: 5/8/19.

Accession Number: 20190508-5072.

Comments Due: 5 p.m. ET 5/29/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2019.
Nathaniel J. Davis, Sr.,
Deputy Secretary.

[FR Doc. 2019-09881 Filed 5-13-19; 8:45 am]

BILLING CODE 6717-01-P